Title 3—

The President

Proclamation 10861 of November 17, 2024

International Conservation Day, 2024

By the President of the United States of America

A Proclamation

Today, I am proud to become the first sitting American President to visit the Amazon and to proclaim the first International Conservation Day, reflecting all that is at stake in the fight against climate change and honoring the power and promise of conservation work. On International Conservation Day, we recommit to working with partners across our Nation and around the world to safeguard our natural treasures.

When we work together to defend our lands and waters, everyone benefits. That is because conservation is about more than protecting our world's beautiful natural wonders—it is about protecting the livelihoods of the people who depend on them; preserving our diverse habitats and the wildlife that lives within them; increasing resiliency throughout our lands, seascapes, and riverscapes; and ensuring our lands and waters can be enjoyed by all.

That is why my Administration has delivered on the most ambitious land and water conservation agenda in American history—leading by the power of our example. When I first came into office, I issued an Executive Order that established the United States' first-ever conservation goal—aiming to protect at least 30 percent of our Nation's lands and waters by 2030. My America the Beautiful initiative has advanced that work by supporting voluntary, locally led conservation and restoration. These efforts have not only helped local communities, Tribes, farmers, ranchers, foresters, and fishers to address the climate crisis and protect lands and waters. They have also created jobs, strengthened the economy, and expanded access to the outdoors across our country. I also signed an Executive Order to safeguard and steward our Nation's forests and make our ecosystems more resilient in the fight against climate change. And we launched the America the Beautiful Freshwater Challenge to protect, restore, and reconnect 8 million acres of wetlands and 100,000 miles of our Nation's rivers and streams to safeguard clean water for all.

I am also proud that my Administration made the largest investment in history to confront the climate crisis through my Inflation Reduction Act and has conserved more than 45 million acres of our Nation's lands and waters. We have established, expanded, and restored 11 national monuments and protected the United States Arctic Ocean from new oil and gas leasing. And together with my Bipartisan Infrastructure Law, we have invested in restoration and conservation, including $50 billion to strengthen community and ecosystem resilience to climate change. Further, I launched the American Climate Corps to mobilize a new, diverse generation of Americans in conserving and restoring our lands and waters, bolstering community resilience, deploying clean energy, and advancing environmental justice—all while creating good jobs.

Around the world, my Administration has made extraordinary progress in advancing conservation. We moved to rejoin the Paris Agreement on day one of my Administration, and we put our country in a position to cut emissions in half by 2030 and reach net zero by 2050. In 2021, at the United Nations Climate Change Conference COP26 in Glasgow, we released the Plan to Conserve Global Forests—a first-of-its-kind national strategy to preserve global ecosystems that serve as vital carbon sinks. We also joined other nations in pledging to end deforestation by 2030, backed by the biggest ever commitment of public funds for forest conservation and a plan to make 75 percent of forest commodity supply chains sustainable. In 2022, we helped rally countries around the world to commit to conserve at least 30 percent of lands and waters by 2030, mirroring the goal we had set at home. We also joined other countries at the United Nations to sign the High Seas Treaty, committing to working together to establish marine protected areas on the high seas—a critical step to conserve ocean biodiversity and reach the global community's goal to conserve or protect at least 30 percent of the ocean by 2030.

My Administration has also delivered record climate financing to support developing countries' efforts to preserve and protect these vital ecosystems that serve as critical carbon sinks, accelerate the clean energy transition, and bolster their resilience to climate change. In 2021, I pledged that our Nation would deliver $11 billion per year in climate financing by 2024. I am proud that we not only kept that promise, but surpassed it. This includes fulfilling my pledge to invest over $3 billion per year to help vulnerable countries around the world mitigate and adapt to climate change as part of my Emergency Plan for Adaptation and Resilience. I am also proud that—with our recent $50 million investment—my Administration has provided over $100 million to the Amazon Fund. At the same time, our Development Finance Corporation (DFC) has helped mobilize over $1 billion in investment to support the restoration of degraded lands in Brazil, Uruguay, and Chile, helping create a market that values keeping this vital ecosystem alive and thriving.

There is still so much to do to ensure that we protect our world's most precious ecosystems and natural treasures. That is why the DFC is investing in one of the largest reforestation projects in the world, beginning with the Brazilian Amazon. I am proud that my Administration is working with over a dozen international partners to launch the Brazil Restoration and Bioeconomy Finance Coalition to mobilize at least $10 billion for land restoration and bioeconomy-related projects by 2030. And I am proud to support President Lula of Brazil's bold vision of creating the Tropical Forest Forever Facility, a path-breaking new initiative that would incentivize countries to protect their tropical forests while supporting the local and Indigenous communities stewarding these forests and ensuring these vital ecosystems continue to thrive.

It has been said that the Amazon rainforest is the lungs of the world. Forests like these, that stretch across the Americas, Africa, and Asia—including the Amazon, Tongass, Congo, and Sundaland—represent our heart and soul. Now more than ever, we must recommit to the urgent work of addressing climate change—together, we can ensure that these treasures will be enjoyed for generations to come.

NOW, THEREFORE, I, JOSEPH R. BIDEN JR., President of the United States of America, by virtue of the authority vested in me by the Constitution and laws of the United States, do hereby proclaim November 17, 2024, as International Conservation Day.

IN WITNESS WHEREOF, I have hereunto set my hand this seventeenth day of November, in the year of our Lord two thousand twenty-four, and of the Independence of the United States of America the two hundred and forty-ninth.

[FR Doc. 2024-27849

Filed 11-25-24; 8:45 am]

Billing code 3395-F4-P